SMALL BUSINESS ADMINISTRATION

13 CFR Part 121

RIN 3245-AG44

Small Business Size Standards; Support Activities for Mining; Correction

AGENCY: U.S. Small Business Administration.

ACTION: Final rule; correction.

SUMMARY: The U.S. Small Business Administration (SBA) is correcting a final rule that appeared in the Federal Register on June 20, 2013 (78 FR 37404). The document amended SBA's Small Business Size Regulations by increasing small business size standards for three of the four industries in North American Industry Classification System (NAICS) Subsector 213, Support Activities for Mining, that are based on average annual receipts. This correction does not affect the revised size standards themselves or the Code of Federal Regulations.

DATES: Effective July 22, 2013.

FOR FURTHER INFORMATION CONTACT: Khem Sharma, Chief, Office of Size Standards, U.S. Small Business Administration, 409 Third Street SW., Washington, DC 20416.

SUPPLEMENTARY INFORMATION: In FR Doc. 2013-14712 appearing on page 37404 in the June 20, 2013 Federal Register issue, the following correction is made:

1. On page 37406, in the heading for column 4 of Table 1, Summary of Revised Size Standards in NAICS Subsector 213, the word “Proposed” is corrected to read “Revised.” The corrected heading for Table 1 reads as follows:

|  | Current size | Revised size
NAICS code | NAICS industry title | standard | standard
|  | ($ million) | ($ million)

Dated: July 17, 2013.
Calvin Jenkins,
Deputy Associate Administrator for Government Contracting and Business Development.

[FR Doc. 2013-17946 Filed 7-25-13; 8:45 am]

BILLING CODE 8025-01-P